DEPARTMENT OF HOMELAND SECURITY

Coast Guard

[USCG-2003-15530]

Navigation Safety Advisory Council; Vacancies

AGENCY: Coast Guard, DHS.

ACTION: Request for applications.

SUMMARY: The Coast Guard seeks applications for membership on the Navigation Safety Advisory Council (NAVSAC). NAVSAC advises the Coast Guard on the prevention of vessel collisions, rammings, and groundings; Inland Rules of the Road; International Rules of the Road; navigation regulations and equipment; routing measures; marine information; diving safety; and aids to navigation systems.

DATES: Application forms must reach us on or before September 15, 2003.

ADDRESSES: You may request an application form by writing to Commandant (G-MW), U.S. Coast Guard, 2100 Second Street SW., Washington, DC 20593-0001; by calling (202) 267-6164; by faxing (202) 267-4700; or by e-mail Jshort@comdt.uscg.mil. Send your completed application form and a short resume to the above street address. This notice and the application form are available on the Internet at http://dms.dot.gov.

FOR FURTHER INFORMATION CONTACT: Ms. Margie Hegy, Executive Director of NAVSAC at (202) 267-0415, fax (202) 267-4700.

SUPPLEMENTARY INFORMATION: The Navigation Safety Advisory Council (NAVSAC) is a Federal advisory committee under 5 U.S.C. App. 2; Pub. L. 92-463, 86 Stat. 770 (1972). It advises the Secretary of Homeland Security, via the Commandant of the Coast Guard, on the prevention of vessel collisions, rammings, and groundings; Inland Rules of the Road; International Rules of the Road; navigation regulations and equipment; routing measures; marine information; diving safety; and aids to navigation systems.

NAVSAC meets at least twice a year at various locations in the continental United States. It may also meet for extraordinary purposes. Its subcommittees and working groups may meet to consider specific problems as required.

We will consider applications for 21 positions. To be considered for membership, all applicants, including individuals who applied previously, must submit current applications and a brief resume. However, if Congressional letters of reference supporting an earlier application were submitted within the last two years, they do not need to be updated. These letters of reference will be considered as part of an updated application.

To be eligible for membership on NAVSAC, you should have experience in the above mentioned subject areas. To assure balanced representation of subject matter expertise, members are chosen, insofar as practical, from the following groups: (1) Recognized experts and leaders in organizations having an active interest in the Rules of the Road and vessel and port safety; (2) representatives of owners and operators of vessels, professional mariners, recreational boaters, and the recreational boating industry; (3) individuals with an interest in maritime law; and (4) Federal and State officials with responsibility for vessel and port safety. In addition, memberships will be geographically balanced. Seven members will be appointed to serve one-year terms; seven to serve two-year terms; and the remaining seven will serve for a term of three years. Thereafter, one-third of the memberships will expire annually on June 30 and members will be appointed or reappointed to serve three-year terms. A few members may serve consecutive terms. All members serve without compensation from the Federal Government, although travel reimbursement and per diem may be provided.

In support of the policy of the Department of Homeland Security on gender and ethnic diversity, we encourage qualified women and members of minority groups to apply.

Dated: July 14, 2003.
T.H. Gilmour,
Rear Admiral, U.S. Coast Guard, Assistant Commandant for Marine Safety, Security and Environmental Protection.

[FR Doc. 03-18377 Filed 7-18-03; 8:45 am]

BILLING CODE 4910-15-P